NUCLEAR REGULATORY COMMISSION

[NRC-2013-0133]

ASME Code Cases Not Approved for Use

AGENCY: Nuclear Regulatory Commission.

ACTION: Draft regulatory guide; request for comment.

SUMMARY: The U.S. Nuclear Regulatory Commission (NRC) is issuing for public comment draft regulatory guide (DG), DG-1233, “ASME Code Cases not Approved for Use.” This regulatory guide lists the American Society of Mechanical Engineers (ASME) Code Cases that the NRC has determined not to be acceptable for use on a generic basis.

DATES: Submit comments by September 9, 2013. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods (unless this document describes a different method for submitting comments on a specific subject):

• Federal Rulemaking Web site: Go to http://www.regulations.gov and search for Docket ID NRC-2013-0133. Address questions about NRC dockets to Carol Gallagher; telephone: 301-492-3668; email: Carol.Gallagher@nrc.gov. For technical questions, contact the individuals listed in the FOR FURTHER INFORMATION CONTACT section of this document.

• Mail comments to: Cindy Bladey, Chief, Rules, Announcements, and Directives Branch (RADB), Office of Administration, Mail Stop: TWB-05-B01M, U.S. Nuclear Regulatory Commission, Washington, DC 20555-0001.

For additional direction on accessing information and submitting comments, see “Accessing Information and Submitting Comments” in the SUPPLEMENTARY INFORMATION section of this document.

FOR FURTHER INFORMATION CONTACT: Wallace E. Norris, telephone: 301-251-7650, email: Wallace.Norris@nrc.gov; or Hector Rodriguez-Luccioni, telephone: 301-251-7685 or email: Hector.Rodriguez-Luccioni@nrc.gov. Both of the Office of Nuclear Regulatory Research, U.S. Nuclear Regulatory Commission, Washington, DC 20555-0001.

SUPPLEMENTARY INFORMATION:

I. Accessing Information and Submitting Comments

A. Accessing Information

Please refer to Docket ID NRC-2013-0133 when contacting the NRC about the availability of information regarding this document. You may access information related to this document, which the NRC possesses and is publicly available, by any of the following methods:

• Federal Rulemaking Web site: Go to http://www.regulations.gov and search for Docket ID NRC-2013-0133.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The DG-1233 is available in ADAMS Accession under Accession No. ML13114A948.

• NRC's PDR: You may examine and purchase copies of public documents at the NRC's PDR, Room O1-F21, One White Flint North, 11555 Rockville Pike, Rockville, Maryland 20852.

Regulatory guides are not copyrighted, and NRC approval is not required to reproduce them.

B. Submitting Comments

Please include Docket ID NRC-2013-0133 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a draft guide in the NRC's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide, entitled, “ASME Code Cases not Approved for Use,” is temporarily identified by its task number, DG-1233 (ADAMS Accession No. ML13114A948). The DG-1233 is proposed Revision 4 of Regulatory Guide 1.193. Revision 3 of Regulatory Guide 1.193 was published in October 2010 (ADAMS Accession No. ML101800540).

The purpose of RG 1.193 is to provide information for applicants and licensees regarding the ASME Boiler and Pressure Vessel Code (BPV) and Operation and Maintenance (OM) of nuclear power plants Code Cases that the NRC has determined not to be acceptable for use on a generic basis.

Regulatory Guide 1.193 lists the Code Cases that the NRC has determined not to be acceptable for use on a generic basis. A brief description of the basis for the determination is provided with each Code Case. There are three other RGs that list the Code Cases that the NRC has found to be acceptable alternatives to requirements in the ASME BPV and OM Codes.

In the Proposed Rules section of this issue of the Federal Register, a notice of issuance and availability addresses the RGs listing the ASME BPV and OM Code Cases that the NRC has approved for use by applicants and licensees: RG 1.84, Revision 36, “Design, Fabrication, and Materials Code Case Acceptability, ASME Section III”; RG 1.147, Revision 17, “Inservice Inspection Code Case Acceptability, ASME Section XI, Division 1”; and RG 1.192, Revision 1, “Operation and Maintenance Code Case Acceptability, ASME OM Code.” The aforementioned notice is available at www.regulations.gov by searching on Docket ID NRC-2009-0359.

Regarding draft Revision 4 of RG 1.193, the NRC reviewed the Code Cases listed in Supplements 1 through 10 of the 2007 Edition of the BPV Code and the 2002 through 2006 Addenda of the OM Code. Licensees may submit a request to implement one or more of the Code Cases listed in RG 1.193 through § 50.55a(z) of Title 10 of the Code of Federal Regulations (10 CFR), which permits the use of alternatives to the Code requirements referenced in 10 CFR 50.55a provided that the proposed alternatives result in an acceptable level of quality and safety. Licensees must submit a plant-specific request that addresses the NRC's concerns about the Code Case at issue.

In the Proposed Rules section of this issue of the Federal Register, a proposed rule that would incorporate by reference RGs 1.84, 1.147, and 1.192 into 10 CFR Part 50, “Domestic Licensing of Production and Utilization Facilities” (RIN 3150-AI72; NRC-2009-0359). The statement of considerations for the proposed rule lists the acceptable and conditionally acceptable Code Cases, and discusses the bases for the proposed conditions.

III. Backfitting and Issue Finality

The purpose of this section is to provide information to applicants and licensees regarding the NRC staff's plans for using this regulatory guide. This regulatory guide does not approve the use of the Code Cases listed herein. Licensees may submit a plant-specific request to implement one or more of the Code Cases listed in this regulatory guide. The request must address the NRC's concerns about the Code Case at issue.

Dated at Rockville, Maryland, this 6th day of June 2013.
For the Nuclear Regulatory Commission.
Thomas H. Boyce,
Chief, Regulatory Guide Development Branch, Division of Engineering, Office of Nuclear Regulatory Research.

[FR Doc. 2013-15018 Filed 6-21-13; 8:45 am]

BILLING CODE 7590-01-P